DEPARTMENT OF HEALTH AND HUMAN SERVICES

Administration for Children and Families

Proposed Information Collection Activity; ORR-3 and ORR-4 Report Forms for the Unaccompanied Refugee Minors Program (OMB #0970-0034)

AGENCY: Office of Refugee Resettlement, Administration for Children and Families, HHS.

ACTION: Request for public comment.

SUMMARY: The Office of Refugee Resettlement (ORR) is requesting a 3-year extension of the ORR-3 and ORR-4 Report Forms (OMB #0970-0034, expiration 01/31/2021). ORR proposes revisions to improve clarity, secure outcome-based data, increase compliance with reporting requirements, and reduce burden.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: The ORR-3 Report is submitted within 30 days of the minor's initial placement in the state, within 60 days of a change in the minor's status (e.g., change in legal responsibility, change in foster home placement, change in immigration data), and within 60 days of termination from the program. The ORR-4 Report is submitted every 12 months beginning on the first anniversary of the initial placement date, to record outcomes of the minor's progress.

Respondents: Unaccompanied Refugee Minors (URM) State Agencies, URM Provider Agencies, and Youth Participants.

Annual Burden Estimates: URM State Agencies
Instrument | Total number of respondents | Total number of responses per respondent | Average burden hours per response | Total burden hours | Annual burden hours
ORR-3 Unaccompanied Refugee Minors Placement Report | 15 | 432 | 0.25 | 1,620 | 540
ORR-4 Unaccompanied Refugee Minors Outcomes Report | 15 | 282 | 0.50 | 2,115 | 705
Estimated Total Annual Burden Hours (State Agencies): 1,245.

Annual Burden Estimates: URM Provider Agencies
Instrument | Total number of respondents | Total number of responses per respondent | Average burden hours per response | Total burden hours | Annual burden hours
ORR-3 Unaccompanied Refugee Minors Placement Report | 24 | 270 | 0.50 | 3,240 | 1,080
ORR-4 Unaccompanied Refugee Minors Outcomes Report | 24 | 162 | 1.0 | 3,888 | 1,296
Estimated Total Annual Burden Hours (Provider Agencies): 2,376.

Annual Burden Estimates: Youth Participants
Instrument | Total number of respondents | Total number of responses per respondent | Average burden hours per response | Total burden hours | Annual burden hours
ORR-4 Unaccompanied Refugee Minors Outcomes Report | 1032 | 3 | 0.50 | 1,548 | 516
Estimated Total Annual Burden Hours (Youth Participants): 516.

Total Estimated Annual Burden Hours: 4,137.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 8 U.S.C. 1522(d).

John M. Sweet Jr,
ACF/OPRE Certifying Officer.

[FR Doc. 2020-19466 Filed 9-2-20; 8:45 am]

BILLING CODE 4184-73-P